DEPARTMENT OF DEFENSE

Department of the Army; Corps of Engineers

Intent to Prepare a Draft Environmental Impact Statement (DEIS) for the Everglades Agricultural Area (EAA) Storage Reservoirs—Phase 1 Project, Central and Southern Florida (C&SF) Project, Comprehensive Review Study

AGENCY: U.S. Army Corps of Engineers, DoD.

ACTION: Notice of intent.

SUMMARY: The Jacksonville District, U.S. Army Corps of Engineers (Corps), intends to prepare an integrated Project Implementation Report (PIR) and DEIS for the EAA Storage Reservoirs Project. The study is a cooperative effort between the Corps and the South Florida Water Management District (SFWMD), which is also a cooperating agency for this DEIS. The lack of water storage in the Everglades system, particularly during wet periods, has led to ecological damage of Lake Okeechobee's littoral zone and damaging regulatory releases to the St. Lucie and Caloosahatchee estuaries. Conversely, in dry periods, this lack of storage has led to water supply shortages for both the human and natural environment. The EAA Storage Reservoirs—Phase 1 is one of the initially authorized projects of the C&SF Comprehensive Review Study (Restudy). The integrated PIR will evaluate providing 240,000 acre-feet of storage on existing Federally-and State-owned lands and increasing the canal conveyance of the Miami, North New River, Bolles, and Cross Canals.

FOR FURTHER INFORMATION CONTACT: U.S. Army Corps of Engineers, Planning Division, Environmental Branch, PO Box 4970, Jacksonville, Florida 32232-0019; Attn: Ms. Janete Cushing, or by telephone at 904-232-2259.

SUPPLEMENTARY INFORMATION: a. Authorization: Section 601 of the Water Resources Development Act of 2000 (Public Law 106-541) authorizes the implementation of the EAA Storage Reservoirs—Phase 1 Project.

b. Study Area: The study area is the Everglades Agricultural Area, approximately 500,000 acres immediately south of Lake Okeechobee, and within sections of Palm Beach and Hendry Counties.

c. Project Scope: The scope includes conducting a watershed assessment of the study area and developing alternative plans for optimizing the design of water storage reservoirs and increasing the canal conveyance of the Miami, North New River, Bolles, and Cross Canals. The watershed assessment will refine the Restudy water budgets for the project components and provide peak flows for canal conveyance improvement requirements. The evaluation of the alternative and selection of a recommended plan will be documented in the PIR. The alternative plans will be reviewed under provisions of appropriate laws and regulations, including the Endangered Species Act, Fish and Wildlife Coordination Act, Clean Water Act, and Farmland Protection Policy Act.

d. Preliminary Alternatives: The Talisman and Woerner land acquisition, composed of 3 parcels totaling approximately 49,900 acres, and the design of Stormwater Treatment Area-¾ determine the footprint of the reservoirs. Further plan formulation will determine the configuration and sizing of the reservoirs, as well as the design of the levees and pump stations.

e. Issues: The EIS will address the following issues: impacts to aquatic, wetland, and upland ecosystems; water flows; socio-economic impacts on agriculture and other water supply dependent business; hazardous and toxic waste; water quality; flood protection; the impacts of land acquisition on the tax base; aesthetics and recreation; fish and wildlife resources, including protected species; cultural resources; and other impacts identified through scoping, public involvement, and interagency coordination.

f. Scoping: A scoping letter and multiple public workshops will be used to invite comments on alternatives and issues from Federal, State, and local agencies, affected Indian tribes, and other interested private organizations and individuals.

g. DEIS Preparation: The integrated PIR, including a DEIS, is currently scheduled for publication in November 2003.

Dated: February 6, 2002.
George M. Strain,
Chief, Planning Division.

[FR Doc. 02-4183 Filed 2-21-02; 8:45 am]

BILLING CODE 3710-AJ-M